DEPARTMENT OF THE INTERIOR

Bureau of Land Management

[MT-100-00-1210-DA]

Resource Advisory Council Meeting, Missoula, Montana

AGENCY: Bureau of Land Management, Interior.

ACTION: Notice of meeting

SUMMARY: The Western Montana Resource Advisory Council will convene at 9:00 a.m., Thursday, October 5, 2000, at the Missoula Field Office, 3255 Fort Missoula Road, Missoula, Montana. Issues will include the Whitetail-Pipestone Travel Management Plan, the Bureau of Land Management's agreement with the Bureau of Reclamation to co-manage Canyon Ferry, and the Centennial Travel Management Plan. Meeting will end at 4:00 p.m.

The meeting is open to the public and written comments may be given to the Council. Oral comments may be presented to the Council at 11:30 a.m. The time allotted for oral comment may be limited, depending on the number of persons wishing to be heard. Individuals who plan to attend and need further information about the meeting, or who need special assistance, such as sign language or other reasonable accommodations, should contact Jean Nelson-Dean, Resource Advisory Coordinator, at the Butte Field Office, 106 North Parkmont, P.O. Box 3388, Butte, Montana 59702-3388, telephone 406-494-5059.

FOR FURTHER INFORMATION CONTACT: Nancy Anderson, BLM Missoula Field Manager, 406-329-3914 or Jean Nelson-Dean at 406-533-7617.

Dated: September 7, 2000.
Richard M. Hotaling,
Field Manager.

[FR Doc. 00-23965 Filed 9-18-00; 8:45 am]

BILLING CODE 4310-DN-P